AGENCY FOR INTERNATIONAL DEVELOPMENT

Bureau for Democracy, Conflict and Humanitarian Assistance; Office of Food for Peace, Announcement of Request for Applications for Title II Non-Emergency Food Aid Programs Targeting Pastoral Areas in Ethiopia

Notice

Notice is hereby given that the Request for Applications for Title II Non-Emergency Food Aid Programs Targeting Pastoral Areas in Ethiopia will be available to interested parties for general viewing.

For individuals who wish to review, the Request for Applications for Title II Non-Emergency Food Aid Programs Targeting Pastoral Areas in Ethiopia will be available via the Food for Peace Web site http://www.usaid.gov/our_work/humanitarian_assistance/ffp/progpolicy.html on or about June 10, 2011. Interested parties can also receive a copy of the Request for Applications for Title II Non-Emergency Food Aid Programs Targeting Pastoral Areas in Ethiopia by contacting the Office of Food for Peace, U.S. Agency for International Development, RRB 7.06-085, 1300 Pennsylvania Avenue, NW., Washington, DC 20523-7600.

Dale Skoric,
Division Chief, Policy and Technical Division, Office of Food for Peace, Bureau for Democracy, Conflict and Humanitarian Assistance.

[FR Doc. 2011-14636 Filed 6-13-11; 8:45 am]

BILLING CODE P